SUSQUEHANNA RIVER BASIN COMMISSION

Commission Meeting

AGENCY: Susquehanna River Basin Commission.

ACTION: Notice.

SUMMARY: The Susquehanna River Basin Commission will conduct its regular business meeting on September 12, 2024 in Harrisburg, Pennsylvania. Details concerning the matters to be addressed at the business meeting are contained in the Supplementary Information section of this notice. Also the Commission published a document in the Federal Register on July 9, 2024, concerning its public hearing on August 1, 2024, in Harrisburg, Pennsylvania.

DATES: The meeting will be held on Thursday, September 12, 2024, at 9 a.m.

ADDRESSES: This public meeting will be conducted in person and digitally from the Lord Baltimore Hotel, 20 W Baltimore Street, Baltimore, Maryland.

FOR FURTHER INFORMATION CONTACT: Jason E. Oyler, General Counsel and Secretary to the Commission, telephone: 717-238-0423; fax: 717-238-2436.

SUPPLEMENTARY INFORMATION: The business meeting will include actions or presentations on the following items: (1) Adoption of the FY 2026 current expense budget; (2) Adoption of the member allocation for FY 2026; (3) approval of contracts and grants; (4) action on rulemaking for agency procurement, bid protest procedures and other changes to Part 801 (tabled at June Meeting); and (5) actions on 24 regulatory program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person at the Lord Baltimore Hotel, 20 W. Baltimore Street, Baltimore, Maryland and digitally. The public is invited to attend the Commission's business meeting. The public may access the Business Meeting remotely via Zoom: https://us02web.zoom.us/j/89292000071?pwd=S1E2Qi9QNHUyTkhjY3ZoRUJJeXpqUT09 Meeting ID 892 9200 0071; Passcode: SRBC4423! or via telephone: 305-224-1968 or 309-205-3325; Meeting ID 892 9200 0071.

Written comments pertaining to items on the agenda at the business meeting may be mailed to the Susquehanna River Basin Commission, 4423 North Front Street, Harrisburg, Pennsylvania 17110-1788, or submitted electronically at the link Business Meeting Comments. Comments are due to the Commission for all items on the business meeting agenda on or before September 9, 2024. Comments will not be accepted at the business meeting noticed herein.

Authority: Pub. L. 91-575, 84 Stat. 1509 et seq., 18 CFR parts 801, 806, and 808.

Dated: August 9, 2024.
Jason E. Oyler,
General Counsel and Secretary to the Commission.

[FR Doc. 2024-18128 Filed 8-13-24; 8:45 am]

BILLING CODE 7040-01-P